Title 3—

The President

Proclamation 10903 of March 14, 2025

Invocation of the Alien Enemies Act Regarding the Invasion of the United States by Tren de Aragua

By the President of the United States of America

A Proclamation

Tren de Aragua (TdA) is a designated Foreign Terrorist Organization with thousands of members, many of whom have unlawfully infiltrated the United States and are conducting irregular warfare and undertaking hostile actions against the United States. TdA operates in conjunction with Cártel de los Soles, the Nicolas Maduro regime-sponsored, narco-terrorism enterprise based in Venezuela, and commits brutal crimes, including murders, kidnappings, extortions, and human, drug, and weapons trafficking. TdA has engaged in and continues to engage in mass illegal migration to the United States to further its objectives of harming United States citizens, undermining public safety, and supporting the Maduro regime's goal of destabilizing democratic nations in the Americas, including the United States.

TdA is closely aligned with, and indeed has infiltrated, the Maduro regime, including its military and law enforcement apparatus. TdA grew significantly while Tareck El Aissami served as governor of Aragua between 2012 and 2017. In 2017, El Aissami was appointed as Vice President of Venezuela. Soon thereafter, the United States Department of the Treasury designated El Aissami as a Specially Designated Narcotics Trafficker under the Foreign Narcotics Kingpin Designation Act, 21 U.S.C. 1901 et seq. El Aissami is currently a United States fugitive facing charges arising from his violations of United States sanctions triggered by his Department of the Treasury designation.

Like El Aissami, Nicolas Maduro, who claims to act as Venezuela's President and asserts control over the security forces and other authorities in Venezuela, also maintains close ties to regime-sponsored narco-terrorists. Maduro leads the regime-sponsored enterprise Cártel de los Soles, which coordinates with and relies on TdA and other organizations to carry out its objective of using illegal narcotics as a weapon to “flood” the United States. In 2020, Maduro and other regime members were charged with narcoterrorism and other crimes in connection with this plot against America.

Over the years, Venezuelan national and local authorities have ceded ever-greater control over their territories to transnational criminal organizations, including TdA. The result is a hybrid criminal state that is perpetrating an invasion of and predatory incursion into the United States, and which poses a substantial danger to the United States. Indeed, in December 2024, INTERPOL Washington confirmed: “Tren de Aragua has emerged as a significant threat to the United States as it infiltrates migration flows from Venezuela.” Evidence irrefutably demonstrates that TdA has invaded the United States and continues to invade, attempt to invade, and threaten to invade the country; perpetrated irregular warfare within the country; and used drug trafficking as a weapon against our citizens.

Based upon a review of TdA's activities, and in consultation with the Attorney General and the Secretary of the Treasury, on February 20, 2025, acting pursuant to the authority in 8 U.S.C. 1189, the Secretary of State designated TdA as a Foreign Terrorist Organization.

As President of the United States and Commander in Chief, it is my solemn duty to protect the American people from the devastating effects of this invasion. NOW, THEREFORE, I, DONALD J. TRUMP, President of the United States of America, by the authority vested in me by the Constitution and the laws of the United States of America, including the Alien Enemies Act, 50 U.S.C. 21 et seq., hereby proclaim and direct as follows:

Section 1. I find and declare that TdA is perpetrating, attempting, and threatening an invasion or predatory incursion against the territory of the United States. TdA is undertaking hostile actions and conducting irregular warfare against the territory of the United States both directly and at the direction, clandestine or otherwise, of the Maduro regime in Venezuela. I make these findings using the full extent of my authority to conduct the Nation's foreign affairs under the Constitution. Based on these findings, and by the authority vested in me by the Constitution and the laws of the United States of America, including 50 U.S.C. 21, I proclaim that all Venezuelan citizens 14 years of age or older who are members of TdA, are within the United States, and are not actually naturalized or lawful permanent residents of the United States are liable to be apprehended, restrained, secured, and removed as Alien Enemies. I further find and declare that all such members of TdA are, by virtue of their membership in that organization, chargeable with actual hostility against the United States and are therefore ineligible for the benefits of 50 U.S.C. 22. I further find and declare that all such members of TdA are a danger to the public peace or safety of the United States.

Sec. 2. I direct the Attorney General, within 60 days of the date of this proclamation, to prepare and publish a letter under her signature declaring the policy described in section 1 of this proclamation as the policy of the United States and attaching this proclamation. I direct the Attorney General to transmit this letter to the Chief Justice of the United States, the chief judge of every circuit court of appeals, the chief judge of every district and territorial court of the United States, each Governor of a State and territory of the United States, and the highest-ranking judicial officer of each State and territory of the United States.

Sec. 3. I direct that all Alien Enemies described in section 1 of this proclamation are subject to immediate apprehension, detention, and removal, and further that they shall not be permitted residence in the United States.

Sec. 4. Pursuant to the Alien Enemies Act, the Attorney General and the Secretary of Homeland Security shall, consistent with applicable law, apprehend, restrain, secure, and remove every Alien Enemy described in section 1 of this proclamation. The Secretary of Homeland Security retains discretion to apprehend and remove any Alien Enemy under any separate authority.

Sec. 5. All executive departments and agencies (agencies) shall collaborate with law enforcement officials of the United States and with appropriate State, local, and tribal officials, to use all lawful means to apprehend, restrain, secure, and remove Alien Enemies described in section 1 of this proclamation.

Sec. 6. Pursuant to my authority under 50 U.S.C. 21 to direct the conduct to be observed on the part of the United States toward the Alien Enemies subject to this proclamation, to direct the manner and degree of the restraint to which such Alien Enemies shall be subject and in what cases, to provide for the removal of such Alien Enemies, and to establish any other regulations which are found necessary “in the premises and for the public safety,” I hereby direct the Attorney General and the Secretary of Homeland Security to execute all the regulations hereinafter contained regarding the Alien Enemies described in section 1 of this proclamation. The Attorney General and the Secretary of Homeland Security are further directed to cause the apprehension, detention, and removal of all members of TdA who otherwise qualify as Alien Enemies under section 1 of this proclamation. The Attorney General and the Secretary of Homeland Security are authorized to take all necessary actions under the Alien Enemies Act to effectuate this proclamation, consistent with applicable law. In doing so, and for such purpose, they are authorized to utilize agents, agencies, and officers of the United States Government and of the several States, territories, dependencies, and municipalities thereof and of the District of Columbia. All such agents, agencies, and officers are hereby granted full authority for all acts done by them in the execution of such regulations when acting by direction of the Attorney General or the Secretary of Homeland Security, as the case may be.

Pursuant to the authority vested in me by the Constitution and the laws of the United States of America, including the Alien Enemies Act, 50 U.S.C. 21 et seq., I hereby declare and establish the following regulations which I find necessary “in the premises and for the public safety”:

(a) No Alien Enemy described in section 1 of this proclamation shall enter, attempt to enter, or be found within any territory subject to the jurisdiction of the United States. Any such Alien Enemy who enters, attempts to enter, or is found within such territory shall be immediately apprehended and detained until removed from the United States. All such Alien Enemies, wherever found within any territory subject to the jurisdiction of the United States, are subject to summary apprehension.

(b) Alien Enemies apprehended pursuant to this proclamation shall be subject to detention until removed from the United States in such place of detention as may be directed by the officers responsible for the execution of these regulations.

(c) Alien Enemies shall be subject to removal to any such location as may be directed by the officers responsible for the execution of these regulations consistent with applicable law.

(d) All property in the possession of, or traceable to, an Alien Enemy, which is used, intended to be used, or is commonly used to perpetrate the hostile activity and irregular warfare of TdA, along with evidence of such hostile activity and irregular warfare, shall be subject to seizure and forfeiture.

The Attorney General is further granted authority, pursuant to the Alien Enemies Act and 3 U.S.C. 301, in consultation with the Secretary of Homeland Security, to issue any guidance necessary to effectuate the prompt apprehension, detention, and removal of all Alien Enemies described in section 1 of this proclamation. Any such guidance shall be effective immediately upon issuance by the Attorney General.

This proclamation and the directives and regulations prescribed herein shall extend and apply to all land and water, continental or insular, in any way within the jurisdiction of the United States.

IN WITNESS WHEREOF, I have hereunto set my hand this fourteenth day of March, in the year of our Lord two thousand twenty-five, and of the Independence of the United States of America the two hundred and forty-ninth.

[FR Doc. 2025-04865

Filed 3-19-25; 8:45 am]

Billing code 3395-F4-P